DEPARTMENT OF COMMERCE

International Trade Administration

[A-583-844]

Narrow Woven Ribbons With Woven Selvedge From Taiwan: Preliminary Results and Rescission, in Part, of Antidumping Duty Administrative Review; 2022-2023

AGENCY: Enforcement and Compliance, International Trade Administration, Department of Commerce.

SUMMARY: The U.S. Department of Commerce (Commerce) preliminarily finds that narrow woven ribbons with woven selvedge (ribbons) from Taiwan were sold in the United States at less than normal value (NV) during the period of review (POR), September 1, 2022, through August 31, 2023. Additionally, Commerce is rescinding this administrative review, in part, with respect to certain companies for which requests for review were timely withdrawn. We invite interested parties to comment on these preliminary results.

DATES: Applicable October 10, 2024.

FOR FURTHER INFORMATION CONTACT: Paul Senoyuit, AD/CVD Operations, Office II, Enforcement and Compliance, International Trade Administration, U.S. Department of Commerce, 1401 Constitution Avenue NW, Washington, DC 20230; telephone: (202) 482-6106.

SUPPLEMENTARY INFORMATION:

Background

On September 1, 2010, Commerce published in the Federal Register the antidumping duty order on ribbons from Taiwan.¹ On September 6, 2023, Commerce published in the Federal Register a notice of opportunity to request an administrative review of the Order for the POR.² On November 15, 2023, based on timely requests for review by Berwick Offray LLC and its wholly-owned subsidiary Lion Ribbon Company, LLC (the petitioners), and in accordance with 19 CFR 351.221(c)(1)(i), we initiated an administrative review of the Order covering 59 exporters and/or producers.³ On January 26, 2024, the petitioners withdrew their request for an administrative review with respect to all companies for which Commerce initiated a review other than Hao Shyang Ind. Co. Ltd. (Hao Shyang) and Lung Che Ribbons Enterprises Co. Ltd. (Lung Che).⁴ On May 10, 2024, Commerce extended the time period for issuing the preliminary results of this review until September 27, 2024.⁵ On July 22, 2024, Commerce tolled certain deadlines in this administrative proceeding by seven days.⁶ The deadline for the preliminary results is now October 4, 2024. For a complete description of the events that followed the initiation of this review, see the Preliminary Decision Memorandum.⁷

¹ See Narrow Woven Ribbons with Woven Selvedge from Taiwan and the People's Republic of China: Antidumping Duty Orders, 75 FR 53632 (September 1, 2010); see also Narrow Woven Ribbons with Woven Selvedge from Taiwan and the People's Republic of China: Amended Antidumping Duty Orders, 75 FR 56982, 56985 (September 17, 2010) (collectively, Order).

² See Antidumping or Countervailing Duty Order, Finding, or Suspended Investigation; Opportunity To Request Administrative Review and Join Annual Inquiry Service List, 88 FR 60923 (September 6, 2023).

³ See Petitioners' Letter, “Request for Administrative Review,” dated September 28, 2023; see also Initiation of Antidumping and Countervailing Duty Administrative Reviews, 88 FR 78298 (November 15, 2023) (Initiation Notice).

⁴ See Petitioners' Letter, “Withdrawal of Administrative Review Request as to Certain Companies,” dated January 26, 2024 (Withdrawal of Review Request) at 1 and Appendix 1.

⁵ See Memorandum, “Extension of Deadline for Preliminary Results of Antidumping Duty Administrative Review,” dated May 10, 2024.

⁶ See Memorandum, “Tolling of Deadlines for Antidumping and Countervailing Duty Proceedings,” dated July 22, 2024.

⁷ See Memorandum, “Decision Memorandum for the Preliminary Results Administrative Review of the Antidumping Duty Order on Narrow Woven Ribbons with Woven Selvedge from Taiwan; 2022-2023,” dated concurrently with, and hereby adopted by, this notice (Preliminary Decision Memorandum).

Scope of the Order

The products subject to the Order are narrow woven ribbons with woven selvedge from Taiwan. For a complete description of the scope of the Order, see the Preliminary Decision Memorandum.⁸

⁸ Id.

Methodology

Commerce is conducting this review in accordance with sections 751(a)(1)(B) and (2) of the Tariff Act of 1930, as amended (the Act). Pursuant to sections 776(a) and (b) of the Act, Commerce preliminarily relied entirely upon facts otherwise available with adverse inferences for Hao Shyang and Lung Che. For a complete description of the methodology underlying our conclusions, see the Preliminary Decision Memorandum. A list of topics discussed in the Preliminary Decision Memorandum is attached in Appendix I of this notice. The Preliminary Decision Memorandum is a public document and is on file electronically via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Rescission of Review, in Part

Pursuant to 19 CFR 351.213(d)(1), Commerce will rescind an administrative review, in whole or in part, if a party who requested the review withdraws the request within 90 days of the date of publication of the notice of initiation of the requested review. On January 26, 2024, the petitioners timely withdrew their request for an administrative review with respect to all companies for which a review was requested other than Hao Shyang and Lung Che.⁹ Accordingly, because no other parties requested a review of these companies, we are rescinding this administrative review, in part, with respect to the 57 companies listed in Appendix II. The administrative review remains active with respect to the mandatory respondents, Hao Shyang and Lung Che.

⁹ See Withdrawal of Review Request.

Preliminary Results of Review

Commerce preliminarily determines that the following estimated weighted-average dumping margin exists for the period September 1, 2022, through August 31, 2023:

Producer or exporter | Weighted- average dumping margin (percent)
Hao Shyang Ind. Co. Ltd | 137.20
Lung Che Ribbons Enterprises Co. Ltd | 137.20

Disclosure

Normally, Commerce discloses to interested parties the calculations performed in connection with a preliminary results finding within five days of any public announcement or, if there is no public announcement, within five days of the date of publication of the notice of preliminary results in the Federal Register, in accordance with 19 CFR 351.224(b). However, because Commerce preliminarily applied total adverse facts available (AFA) to the two individually examined companies subject to this this review, in accordance with section 776 of the Act, there are no calculations to disclose.

Public Comment

Interested parties may submit case briefs to Commerce no later than 30 days after the date of publication of this notice.¹⁰ Rebuttal briefs, limited to issues raised in the case briefs, may be filed no later than five days after the date for filing case briefs.¹¹ Interested parties who submit case briefs or rebuttal briefs in this proceeding must submit: (1) a table of contents listing each issue; and (2) a table of authorities.¹²

¹⁰ See 19 CFR 351.309(c)(ii); see also 19 CFR 351.303 (for general filing requirements).

¹¹ See 19 CFR 351.309(d); see also Administrative Protective Order, Service, and Other Procedures in Antidumping and Countervailing Duty Proceedings, 88 FR 67069, 67077 (September 29, 2023) (APO and Service Final Rule).

¹² See 19 CFR 351.309(c)(2) and (d)(2).

As provided under 19 CFR 351.309(c)(2) and (d)(2), in prior proceedings we have encouraged interested parties to provide an executive summary of their brief that should be limited to five pages total, including footnotes. In this investigation, we instead request that interested parties provide at the beginning of their briefs a public, executive summary for each issue raised in their briefs.¹³ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).¹⁴

¹³ We use the term “issue” here to describe an argument that Commerce would normally address in a comment of the Issues and Decision Memorandum.

¹⁴ See APO and Service Final Rule.

Pursuant to 19 CFR 351.310(c), interested parties who wish to request a hearing, limited to issues raised in the case and rebuttal briefs, must submit a written request to the Assistant Secretary for Enforcement and Compliance, within 30 days after the date of publication of this notice. Requests should contain the party's name, address, and telephone number, the number of participants, whether any participant is a foreign national, and a list of issues to be discussed. If a request for a hearing is made, Commerce intends to hold a hearing at a time and date to be determined.¹⁵ Parties should confirm by telephone the date, time, and location of the hearing two days before the scheduled date. All submissions, including case and rebuttal briefs, as well as hearing requests, should be filed using ACCESS.¹⁶ An electronically-filed document must be received successfully in its entirety by ACCESS by 5:00 p.m. Eastern Time on the established deadline.

¹⁵ See 19 CFR 351.310(d).

¹⁶ See 19 CFR 351.303.

Assessment Rates

Pursuant to section 751(a)(2)(A) of the Act, upon completion of the final results of administrative review, Commerce shall determine, and U.S. Customs and Border Protection (CBP) shall assess, antidumping duties on all appropriate entries covered by this review.¹⁷

¹⁷ See 19 CFR 351.212(b)(1).

For the companies for which this review is being rescinded, in part, Commerce will instruct CBP to assess antidumping duties on all appropriate entries. Antidumping duties shall be assessed at rates equal to the cash deposit rate for estimated antidumping duties required at the time of entry, or withdrawal from warehouse, for consumption, in accordance with 19 CFR 351.212(c)(1)(i). With respect to the recission of this review, in part, Commerce intends to issue assessment instructions to CBP no earlier than 35 days after the date of publication of this notice in the Federal Register.

For companies subject to this review, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of ribbons from Taiwan entered, or withdrawn from warehouse, for consumption on or after the date of publication as provided for by section 751(a)(2)(C) of the Act: (1) the cash deposit rate for Hao Shyang and Lung Che will be equal to the weighted-average dumping margin established in the final results of this review; (2) for merchandise exported by a company not covered in this review but covered in a prior completed segment of the proceeding, the cash deposit rate will continue to be the company-specific rate published in the completed segment for the most recent period; (3) if the exporter is not a firm covered in this review or another completed segment of this proceeding, but the producer is, then the cash deposit rate will be the company-specific rate established for the completed segment for the most recent period for the producer of the merchandise; and (4) the cash deposit rate for all other manufacturers or exporters will continue to be 4.37 percent, the all-others rate determined in the less-than-fair-value investigation.¹⁸ These cash deposit requirements, when imposed, shall remain in effect until further notice.

¹⁸ See Order.

Final Results of Review

Unless the deadline is otherwise extended, Commerce intends to issue the final results of this administrative review, including the results of its analysis of the issues raised by interested parties in written briefs, within 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of countervailing duties.¹⁹

¹⁹ See 19 CFR 351.402(f)(3).

Notification to Interested Parties

We are issuing and publishing these preliminary results in accordance with sections 751(a)(1) and 777(i) of the Act, and 19 CFR 351.213(h) and 351.221(b)(4).

Dated: October 3, 2024.
Ryan Majerus,
Deputy Assistant Secretary for Policy and Negotiations performing the non-exclusive functions and duties of the Assistant Secretary for Enforcement and Compliance.

Appendix I

List of Topics Discussed in the Preliminary Decision Memorandum

I. Summary

II. Background

III. Scope of the Order

IV. Rescission of Review, in Part

V. Discussion of the Methodology

VI. Recommendation

Appendix II

Companies Rescinded From Review

1. A-MADEUS TEXTILE LTD.

2. A-MEN Ribbons Co., Ltd.

3. Antonio Proietti Int. Inc.

4. Apex Trimmings

5. Banduoo Ltd.

6. Bon-Mar Textiles

7. Chang Store Co. Ltd

8. Cheng Hsing Ribbon Factory

9. Cheng Mei Label Mfg. Corp.

10. Christmas Castle International Ltd.

11. Dear Year Brothers Mfg. Co., Ltd

12. Dearcobber International Co Ltd

13. Ethel Enterprise Co., Ltd.; Glory Young Enterprise Co., Ltd.; King Young Enterprises Co., Ltd.

14. Everwin Textile Corp.

15. Fist Labeling Corp.

16. Friend Chiu Co., Ltd.

17. Fujian Rongshu Industry Co., Ltd.

18. Golden State Industrial Co. Ltd.

19. Great Texture Int'l Co., Ltd.

20. Guangzhou Complacent Weaving Co., Ltd.

21. Gyrostate Corp.

22. Hen Hao Trading Co. Ltd; Taiwan Tulip Ribbons and Braids Co. Ltd.

23. Hsien Chan Enterprise Co., Ltd.; Novelty Handicrafts Co., Ltd.; Shienq Huong Enterprise Co., Ltd.

24. Hubscher Ribbon Corp., Ltd.; Hubschercorp

25. Imprimerie Mikan Inc.

26. J.S. (Just Splendid) Co., Ltd.

27. JCben Enterprises Co. Ltd.

28. Junmay Label Mfg Corp.

29. L'Emballage Tout

30. Lace Fashions Industrial Co. Ltd.

31. Linset Enterprises Co., Ltd.

32. Maple Ribbon Co., Ltd.

33. Maxtend Industry Corporation

34. May Favor Enterprise Co., Ltd

35. Ming Wei Co., Ltd.

36. Multicolor

37. N.K. Galleria Inc.

38. Nien Chow Industrial Co.

39. Pansy Weaving Co/Ltd

40. Papillon Ribbon & Bow (Canada)

41. Papillon Ribbon & Bow (H.K.) Ltd.

42. Papillon Ribbon & Bow (Shanghai) Ltd.

43. Pearl Ribbons and Trims, Inc.

44. Ren Her Industry Co. Ltd.

45. Ribbon City Company

46. Roung Shu Industry Corporation

47. Rubans G A R Inc. (Les)

48. Trio Co., Ltd

49. Trydent Co. Ltd.

50. Tse Tien Shin Enterprise Co Ltd

51. Tsong Jiaw Enterprise Co., Ltd.

52. Wing Hung (Tw) Co Ltd

53. Xiamen Especial Industrial Co., Ltd.

54. Xiamen Yi-He Textile Co., Ltd.

55. Yanzhou Bespak Gifts & Crafts Co.

56. Yih Jenq Textile Co. Ltd.

57. Yu Shin Development Co. Ltd.

[FR Doc. 2024-23443 Filed 10-9-24; 8:45 am]

BILLING CODE 3510-DS-P